DEPARTMENT OF ENERGY

Federal Energy Regulatory Commission

[Docket No. CP02-90-003]

AES Ocean Express, L.L.C. (Ocean Express); Notice of Intent To Prepare an Environmental Assessment for the Proposed Modifications to the Ocean Express Pipeline Project and Request for Comments on Environmental Issues

November 15, 2004.

The staff of the Federal Energy Regulatory Commission (FERC or Commission) and the Minerals Management Service (MMS) will prepare an environmental assessment (EA) that will discuss the environmental impacts of the Modifications to the Ocean Express Pipeline Project proposed by Ocean Express in Broward County, Florida, State Waters of Florida, and Federal Waters of the United States.¹ The Ocean Express Pipeline Project received a certificate of public convenience and necessity from the Commission on January 29, 2004 in Docket Nos. CP02-90, et al. Ocean Express has requested necessary authorizations for a pipeline right-of-way in Federal waters from the MMS. Ocean Express has now proposed changes to their original proposal, and those proposed changes will be reviewed by Commission and MMS staff. The Ocean Express Pipeline Project modifications reflect the incorporation of tunnel construction methodology for the nearshore portion of the pipeline, as well as certain other design changes, for the natural gas pipeline between the United States and the Bahamas. This EA will be used by the Commission in its decision-making process to determine whether the project modifications are in the public convenience and necessity. The MMS will have primary responsibility for offshore analysis in U.S. waters and will coordinate with the U.S. Army Corps of Engineers regarding Florida State waters review.

¹ Ocean Express's application was filed with the Commission on September 9, 2004, as supplemented on September 15, 2004 and September 20, 2004, under section 7 of the Natural Gas Act and part 157 and part 284 of the Commission's Regulations.

The FERC is the lead agency and the MMS is a Federal cooperating agency for this project because the MMS has jurisdiction by law as well as special expertise regarding the potential environmental impacts associated with that portion of the proposed pipeline that would be installed on the Outer Continental Shelf.

This notice is being sent to landowners, individuals, organizations, and government entities that expressed an interest in the original project and received a copy of FERC's Final Environmental Impact Statement for the Ocean Express Pipeline Project (issued November 28, 2003). No new landowners are affected by the proposed modifications. It is also being sent to all identified potential right-of-way grantors. If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

FERC prepared a fact sheet entitled “An Interstate Natural Gas Facility On My Land? What Do I Need To Know?”. This fact sheet addresses a number of typically asked questions, including the use of eminent domain and how to participate in the Commission's proceedings. It is available for viewing on the FERC Internet Web site (http://www.ferc.gov).

Summary of the Proposed Project

As certificated, the Ocean Express Pipeline Project would consist of a new 24-inch-diameter interstate natural gas pipeline, and certain ancillary facilities, that would extend approximately 54.5 miles from a receipt point on the Exclusive Economic Zone (EEZ) boundary between the United States and the Bahamas to two delivery points in Broward County, Florida, one at an interconnection with the existing Florida Gas Transmission System (FGT) pipeline at the Florida Power and Light (FPL) Fort Lauderdale Power Plant, and the other at an interconnection with the FPL gas line that serves the FPL Fort Lauderdale plant. Ocean Express's proposed modifications reflect the incorporation of tunnel construction methodology for the nearshore portion of its pipeline, as well as certain other design changes. Ocean Express developed the proposed modifications to address the local gas markets demand for peak period deliverability and certain delays that it has encountered in meeting its proposed construction schedule.

Ocean Express explains that the use of the tunnel construction methodology would allow it to construct the nearshore portion the pipeline using an approximately 14,000-foot-long tunnel, with certain minor route changes to accommodate the methodology, as opposed to the horizontal directional drills (HDDs) that the Commission has already approved. Ocean Express also proposes to increase the pipeline diameter from 24 inches to 26 inches and internally coat the pipeline, to allow for increased hourly flow rates, but does not propose to increase the certificated capacity (842,000 dekatherms/day) of its pipeline. Additionally, Ocean Express proposes to install a pressure reducing station inside the tunnel to reduce the onshore Maximum Allowable Operating Pressure (MAOP) to 1,480 pounds per square inch gauge (psig) or less, from the certificated MAOP of 2,200 psig. An aboveground tunnel shaft/access building and gas vent would also be installed at the Dania Beach Boulevard Traffic Circle.

Ocean Express designed the proposed tunnel construction installation to further minimize the potential for direct impacts and the risk of inadvertent impacts to sensitive marine resources, particularly the hardbottom and coral reef resources that occur in the nearshore environment of the project area. The proposed tunnel modification would replace previously certificated plans to perform two HDDs under the nearshore reef systems, with the HDDs connected by a direct pipelay segment between two of the dominant reef trends. The tunnel modification would avoid the need for offshore construction work spaces to the west of the dominant reef trends. Ocean Express indicates that elimination of those work spaces would minimize direct impacts and significantly reducing the potential for inadvertent impacts in proximity to the reefs (e.g., unanticipated spills, anchor impacts, work vessel passage over reefs, etc.). Additionally, Ocean Express states that the equipment used to construct the tunnel would not use drilling fluids under high pressure, thereby eliminating the potential risk of an inadvertent release of drilling muds, or frac-out, which could potentially have occurred in association with the HDD installation methodology.

The proposed tunnel would begin at an entrance point at the Dania Beach Boulevard Traffic Circle (RMP 48.0, TMP 47.5), as proposed with the certificated HDD installation method, and exit approximately 200 feet east of the mapped edge of the easternmost reef trend (TMP 44.8). An entrance shaft, consisting of a 40-foot-diameter by 140-foot-deep, single concrete caisson, would be constructed at the tunnel entry point. From that point, an earth pressure balance (EPB) tunnel boring machine would be used to construct a watertight, approximately 13,500-foot-long, 13.6-foot-diameter, concrete-lined tunnel. At the end of this main tunnel (TMP 44.9), a 42-inch-diameter microtunnel measuring approximately 650-feet-in-length would be constructed by either a microtunnel boring machine or by hydraulic jacking of a casing out to the ocean floor.

Once completed, the tunnel would provide a conduit for installation of the nearshore portion of the pipeline. The pipeline string to be installed within the main tunnel would be assembled inside the tunnel. The pipestring installed within the microtunnel would be prefabricated offshore and pulled back into the microtunnel to accomplish tie-in between the pipeline within the main tunnel and the offshore, direct lay portion of the pipeline. An approximately 2,000-foot-long pipestring would be assembled within an offshore pull corridor using an anchor positioned work barge. A prefabricated pipe support measuring approximately 100-feet-long by 9-feet-wide would be positioned near the microtunnel exit. This pipe support would be used to support the prefabricated pipestring across a span created by the 4 to 6 degree seabed slope at the tunnel exit during pull back into the microtunnel. Following pipeline installation, articulated concrete mats would be used to cover and protect the segment of the pipeline extending from the tunnel exit to a water depth of 200 feet. This concrete mat covered segment of the pipeline would measure approximately 2,300-feet-long by 9-feet-wide and would encompass an area of approximately 0.5 acre.

No onshore alignment changes would be required in association with the proposed modifications. Ocean Express has slightly revised its proposed nearshore route to accommodate the tunnel installation methodology and to minimize construction activities outside the tunnel. The revised nearshore route would reduce the length of the proposed pipeline by approximately 0.5 mile, but would not differ substantively in alignment from the certificated route. Seaward of the tunnel exit point, an approximately 0.8-mile-long segment of pipeline would extend to a tie-in with the previously authorized route at RMP 44.0/TMP 44.0. East of this point, the offshore route would be unchanged by the proposed modifications.

The previously certificated facilities, as modified by the Ocean Express proposal, are summarized in Table 1 below, and the proposed alignment of the modified nearshore project facilities is shown in Appendix 1.² If you are interested in obtaining detailed maps of a specific portion of the project, send in your request using the form in Appendix 4.

² The appendices referenced in this notice are not being printed in the Federal Register. Copies of all appendices, other than Appendix 1 (map), are available on the Commission's Web site at the “eLibrary” link or from the Commission's Public Reference Room, 888 First Street, NE., Washington, DC 20426, or call (202) 502-8371. For instructions on connecting to eLibrary refer to the “Additional Information” section of this notice. Copies of the appendices were sent to all those receiving this notice in the mail.

Land Requirements for Construction

As a result of the tunnel installation methodology, Ocean Express indicates that the offshore temporary workspaces for pipeline installation would be reduced from approximately 1,840 acres to approximately 1,466 acres. The 200-foot-wide construction right-of-way for the offshore segment of the project that was previously authorized would be maintained. All land requirements associated with the tunnel exit/tie-in, pipelay fabrication and construction, and laybarge anchoring would be contained within the 200-foot-wide construction right-of-way and the additional workspace areas identified in Appendix 1. Pipelay construction from TMP 44.2 to the EEZ boundary (MP 0) would be performed using a dynamically positioned laybarge. Following construction, a permanent 25-foot-wide right-of-way would be retained in State of Florida territorial waters (RMP 43.0 to TMP 47.5) for pipeline operation and maintenance. The alignment and width (200 feet) of the proposed permanent right-of-way for the offshore segment of the pipeline in federal waters would be unaffected by the proposed modifications.

Table 1.—Ocean Express Pipeline Project Summary of Previously Authorized Project Facilities as Modified by the Current Proposal
Facility ¹ | Pipeline diameter | Approximate length (miles) ² | Milepost ³ | Location/jurisdiction
Offshore Segment:
Pipeline | 26-inch* | 43.0 | MP 0.0 to RMP 43.03 | U.S. Federal Waters.
Pipeline | 26-inch* | *4.5 | RMP 43.03 to TMP 47.5 | Florida State Waters.
Onshore Segment:
Pipeline | 26-inch* | 6.1 | TMP 47.5 to 53.62 | Broward County.
Pipeline ⁴ | 20-inch | 0.7 | FPL MP 0.0 to 0.35 | Broward County.
Aboveground Facilities ⁵ | N/A ⁶ | N/A | TMP 53.62 & TMP 47.5* | Broward County.
Underground Facilities ⁷ | N/A | N/A | TMP 47.5* | Broward County.
Total Length: 54.3 miles ⁸
* Denotes project facilities or characteristics included in the proposed modification and that would differ from the certificated facilities.
¹ Project facilities include pipeline and associated facilities.
² Approximate length provided in statute miles.
³ ”MP” refers to Milepost; “RMP” refers to Revised Milepost; and “TMP” refers to Tunnel Milepost.
⁴ Includes dual 20-inch lateral lines to the FPL Fort Lauderdale Power Plant.
⁵ The term “Aboveground Facilities” for purposes of this table includes the proposed meter stations, mainline shutoff valve, and pig launching/receiving station located at TMP 53.62 and the tunnel shaft/access building and gas vent at TMP 47.5 proposed in association with the modification.
⁶ N/A indicates not applicable.
⁷ The term “Underground Facilities” for purposes of this table includes the pressure reducing station and mainline shutoff valve at TMP 47.5 (located inside the tunnel) proposed in association with the modification.
⁸ Does not include 40.4 miles of non-jurisdictional pipeline that would be constructed in waters between the Bahamas and the EEZ.

Ocean Express is not proposing any alignment changes to the onshore portion of the project and does not anticipate that the increase in diameter of the pipeline from 24 inches to 26 inches would affect the size of the onshore construction or permanent rights-of-way. A temporary concrete segment fabrication batch plant would be constructed as part of the tunnel modification and would require approximately 8 to 12 acres of existing light industrial or industrial zoned land in order to fabricate the tunnel concrete segments. Ocean Express anticipates that they would enter into a lease agreement with a local landowner for this land requirement. With the exception of Ocean Express's temporary concrete-segment fabrication batch plant facility, the onshore construction activities would not deviate from certificated land requirements for access roads, additional workspace/storage areas, or pipe and contractor yards. The onshore aboveground facilities would be identical to the certificated project with the exception of a newly proposed tunnel shaft utility/access building and gas vent, which would service the underground pressure reducing station that would be located at the Dania Beach Boulevard Traffic Circle.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ ”We”, “us,” and “our” refer to the environmental staff of the Office of Energy Projects (OEP).

• Geology;

• Soils and sediments;

• Water resources;

• Fishery resources, benthic communities, and wildlife;

• Protected, threatened, and endangered species;

• Land use and visual resources;

• Cultural resources;

• Socioeconomics;

• Air quality and noise;

• Reliability and safety; and

• Cumulative impacts.

We will not discuss impacts to certain resource areas since they are not present in the project area, or would not be affected by the proposed facilities in a manner substantially different than has already been evaluated in the certificated project. These resource areas include:

• Onshore vegetation communities, including wetlands;

• Onshore wildlife and fisheries; and

• Recreation.

We will also evaluate possible alternatives to lessen or avoid impacts on the various resource areas.

Our independent analysis of the issues will be included in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section of this notice.

Currently Identified Environmental Issues

FERC staff participated in a technical meeting with representatives from Ocean Express and federal, state, and local agencies on September 24, 2004. We also attended a public open house (informational meeting) sponsored by Ocean Express on October 7, 2004. The issues and concerns identified by the commentors during those meetings will be considered in the preparation of the EA.

We have already identified several issues that we think deserve attention based on a preliminary review of the proposed facilities and the environmental information provided by Ocean Express. This preliminary list of issues may be changed based on your comments and our analysis. The issues include:

• Fishery resources and benthic communities, especially relating to potential impacts to marine hardbottom habitats and coral reef resources;

• Water resources, including the potential for sedimentation and/or turbidity effects associated with “punch out” at the eastern terminus of the tunnel;

• Tunnel stability and the potential for subsidence;

• Aquatic toxicity of soil conditioners and foams used in tunnel construction;

• Potential impacts to operations at the U.S. Navy's Naval Surface Warfare Center, Carderrock Division (NSWCCD) resulting from the proposed modifications;

• Increased onshore vehicle traffic and congestion associated with the proposed modified installation method; and

• Safety and security of the proposed modifications.

Ocean Express indicates that the proposed tunnel modification would further avoid or minimize impacts to the nearshore reef systems and significantly reduce the risk of unanticipated impacts, as compared to the HDD construction methodology authorized by the FERC certificate. Table 2 summarizes and compares the anticipated direct and indirect marine habitat impacts associated with the proposed modifications to those associated with the HDD construction methodology. Specifically, the landfall HDD exit point, the 9,100-foot-long concrete mat covered segment between the dominant reef trends, and the offshore HDD entry location would be eliminated under the proposed modification. Additionally, the pre-assembled pipestring that would have been floated over the eastern most reef trend for installation within the landfall HDD bore would be eliminated. Because these elements of the project and their associated construction workspaces would be eliminated, Ocean Express indicates that the tunnel modification would significantly reduce direct impacts and the risk of inadvertent impacts in proximity to the reefs. Further, Ocean Express states that the EPB tunnel boring machine would not use drilling fluids under high pressure, thereby eliminating the potential risk of a frac-out, which could potentially have occurred in association with the HDD installation methodology.

Ocean Express predicts that the equipment that would be used to construct the microtunnel can be operated in a manner that would avoid creation of a sediment plume in the marine environment at the tunnel exit point. Additionally, the tunnel installation methodology would not require dredging to excavate the tunnel exit point, which would be required by the previously approved HDD installation method. Even though the proposed tunnel installation methodology greatly reduces the potential for turbidity and sedimentation generating activities, Ocean Express continues to use its previous estimates for turbidity and sedimentation associated with the HDD installation exit point as a conservative measure of impact estimation. Ocean Express would also continue with its plans to monitor for potential unanticipated environmental damage, both during and after construction.

Table 2.—Ocean Express Pipeline Project Comparison of Marine Benthic Impacts in State of Florida Waters
| Certificated HDD installation method |  |  |  | Proposed tunnel installation method
| Temporary impact (acres) |  | Permanent impact (acres) |  | Temporary impact (acres) |  | Permanent impact (acres)
| Habitat type ¹ |  |  |  | Habitat type ¹
Work area segment (state waters) | Sand w/rubble | Sand | Sand w/rubble | Sand | Sand w/rubble | Sand | Sand w/rubble | Sand
West of Reef 3:
Direct Impact | 0.31 | 2.91 | 0.07 | 1.78 | 0.00 | 0.00 | 0.00 | 0.00
Indirect Impact | 0.00 | 4.09 | 0.00 | 0.00 | 0.00 | 0.00 | 0.00 | 0.00
East of Reef 3:
Direct Impact | 0.38 | 1.02 | 0.16 | 0.29 | 0.36 | 0.86 | 0.15 | 0.38
Indirect Impact | 0.28 | 0.69 | 0.00 | 0.00 | 0.28 | ² 0.69 | 0.00 | 0.00
Subtotal | 0.97 | 8.71 | 0.23 | 2.07 | 0.64 | 1.55 | 0.15 | 0.38
Total Impact ³ | 1.20 |  | 10.78 |  | 0.79 |  | 1.93
¹ “Sand w/Rubble” (Habitat Type B) consists of sand and rubble habitat with 5 to 20 percent biotal coverage, while the remaining percentage consists of sand and rubble with less than 5 percent biotal coverage. “Sand” (Habitat Type D) consists of sand in proximity to hardbottom/reef resources with less than 5 percent biotal coverage.
² This area corresponds to the previous estimates of sedimentation/turbidity impact associated with excavation of the offshore HDD exit location. Ocean Express is continuing to use this value as a conservative estimate of the sedimentation/turbidity impacts that would be associated with the microtunnel exit point.
³ Total impact includes estimated additive effect of both temporary and permanent impacts.

Ocean Express has reported that after extensive consultation with tunneling experts, review of available geologic data, as well as a review of previously completed tunneling projects, there appears to be no major technical obstacles to successful completion of the proposed tunnel. During tunnel construction, Ocean Express would implement various measures to stabilize the tunnel and minimize the potential for tunnel collapse. The overburden above the tunnel would be maintained at a minimum of 30 feet, and pre-fabricated concrete segments designed to withstand internal and external loading forces would be used to stabilize the tunnel as the EPB tunnel boring machine advances. Additionally, Ocean Express would implement a Tunnel Monitoring and Control Program to ensure that tunnel stability is monitored and maintained. The Commission will evaluate the feasibility of the proposed tunnel modification in consideration of site-specific geologic conditions and experience gained from other tunneling projects.

The U.S. Navy's NSWCCD is located in proximity to the proposed nearshore pipeline route, and a portion of the proposed pipeline would cross a U.S. Navy restricted area. The NSWCCD uses systems that are highly sensitive to magnetic interference and could be affected by the proposed pipeline project. In order to address the Navy's concerns, Ocean Express proposed to construct approximately 3.8 miles of its pipeline using low magnetic pipe. Under the proposed modification, this portion of the pipeline would be reduced to 3.3 miles, but the alignment would still traverse one corner of the Navy restricted area. Ocean Express is coordinating the proposed modifications with the NSWCCD and anticipates amending the February 5, 2003 Memorandum of Agreement with NSWCCD to accommodate technical issues related to the proposed modifications.

Spoil materials removed from the tunnel would be loaded on trucks at the Dania Beach Boulevard Traffic Circle and removed offsite for disposal. Ocean Express estimates that about 8,004 cubic yards of spoil would be removed to construct the tunnel shaft and about 97,330 cubic yards of spoil would be removed to construct the tunnel and microtunnel corridors. Soil conditioners and foaming agents would be used to stabilize the tunnel face during excavation activities and could contaminate spoil material removed during excavation activities. Ocean Express anticipates that proper handling of tunnel spoils would prevent any potential degradation of soil, surface water, or ground water quality.

The pre-fabricated concrete segments used to line the tunnel and the pipeline segments installed within the portion of the tunnel constructed using the EPB tunnel boring machine would be delivered to the Dania Beach Boulevard Traffic Circle construction site. This activity in combination with the removal of spoil from the site could impact local traffic flow patterns. These activities would generate an increased volume of traffic through the duration of the tunnel boring and pipeline installation process, which is expected to last approximately 15 months. Ocean Express is currently in the final stages of revising its traffic study to gauge the anticipated increased truck traffic in and around the Dania Beach Boulevard Traffic Circle associated with implementation of the proposed installation modifications. Ocean Express will file the traffic study with FERC once the study is complete, but has indicated that it would employ the necessary traffic control devices to ensure that construction activities avoid or minimize any impact to the local traffic flow. Day to day construction activities would be scheduled to account for heavier than usual traffic flow and to avoid high traffic periods. Additionally, an on-site storage facility at the Dania Beach Boulevard Traffic Circle construction site would be designed to hold several days of production materials to give added flexibility.

The pipeline and ancillary facilities associated with the proposed project would be designed, constructed, operated, and maintained in accordance with the U.S. Department of Transportation Minimum Federal Safety Standards in 49 CFR part 192, and any other applicable safety standards. These standards govern the distance between sectionalizing block valves and require the pipeline owner to install cathodic protection, use other corrosion-preventing procedures, and perform various maintenance activities. During construction, pipeline weld inspections and hydrostatic tests would be conducted to verify pipeline integrity and ensure the pipeline's ability to withstand the maximum designed operating pressure. Additionally, the proposed tunnel would be designed, constructed, installed, inspected, operated, and maintained, as applicable, in accordance with applicable U.S. Department of Labor, Occupational Health and Safety Administration and local building code requirements. Precautions would also be taken to ensure that the facilities associated with the proposed modifications are secured during operation. The natural gas vent and tunnel shaft utility access building that would be located at the Dania Beach Traffic Circle, would be enclosed within a secured fenced area and the access door to the Tunnel Shaft Utility/Access building would be locked. The door and fence would be alarmed to prevent intruders.

The non-jurisdictional facilities associated with the previously certificated Ocean Express Pipeline Project, which consist of a pipeline and liquefied natural gas terminal and regasification facility that would be located within the jurisdiction of the Bahamian government, are discussed in the FEIS. We will briefly describe the location and status of these facilities in the EA.

Public Participation

You can make a difference by providing us with your specific comments or concerns about the project. By becoming a commentor, your concerns will be addressed in the EA and considered by the Commission. You should focus on the potential environmental effects of the proposal and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP02-90-003.

• Mail your comments so that they will be received in Washington, DC, on or before December 20, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 3).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to landowners, individuals, organizations, and government entities that expressed an interest in the original project and received a copy of FERC's Final Environmental Impact Statement for the Ocean Express Pipeline Project (issued November 28, 2003). By this notice we are also asking governmental agencies, especially those in Appendix 4, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings. General information about the MMS and detailed information regarding Florida state and federal waters can be accessed at the MMS Internet Web site (http://www.mms.gov).

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits, if conducted, would be posted on the Commission's calendar located at http://www.ferc.gov/EventCalendar/EventsList.aspx along with other related information.

Magalie R. Salas,
Secretary.

[FR Doc. E4-3259 Filed 11-18-04; 8:45 am]

BILLING CODE 6717-01-P